DEPARTMENT OF COMMERCE

International Trade Administration

Market Segmentation of Moderate U.S. Exporters—Focus Groups

ACTION: Proposed collection; comment request.

SUMMARY: The Department of Commerce, as part of its continuing effort to reduce paperwork and respondent burdens, invites the general public and other Federal agencies to take this opportunity to comment on the continuing information, as required Paperwork Reduction Act of 1995, Public Law 104-13 (44 U.S.C. 3506(2)(A)).

DATES: Written comments must be submitted on or before February 13, 2007.

ADDRESSES: Direct all written comments to Diana Hynek, Departmental Paperwork Clearance Officer, Department of Commerce, Room 6625, 14th & Constitution Avenue, NW., Washington, DC 20230. E-mail: dHynek@doc.gov.

FOR FURTHER INFORMATION CONTACT: Request for additional information or copies of the information collection instrument and instructions should be directed to: Gary Rand, 14th & Constitution Avenue, NW., Washington, DC 20230; Phone number: 202-482-0691; E-mail: Gary.Rand@mail.doc.gov.

SUPPLEMENTARY INFORMATION:

I. Abstract

In an effort to remain relevant to the marketplace and optimize our respective operations, the Commercial Service (CS), Manufacturing Extension Partnership (MEP), Census Bureau (Census), and Export-Import Bank (Ex-Im) have formed a project team to conduct market segmentation research and analysis. Market segmentation is a systematic approach for identifying clusters of companies with similar needs and behavior, and developing service offerings and sales/marketing approaches targeted at segments with the greatest return on investment.

The purpose of this initiative is to gain market knowledge and generate statistically valid characterizations about the needs and buying behavior of exporting companies, with a particular focus on Moderate exporters, for instance:

(1) What are the challenges/barriers to exporting and international growth, for various types of companies?

(2) What are their service needs, real and perceived?

(3) In what areas do they want outside assistance?

(4) What are their attitudes and purchasing behavior about working with outside resources on exporting, including private consultants and government trade specialists?

(5) When and why do exporters purchase outside services for export assistance? What is the landscape of export service providers?

(6) What are the key drivers of export success? What are the characteristics associated with success? Our focus here is getting the companies into the market, introducing them to the local partners, giving them the tools and the opportunities to make the deals, i.e., success is defined as getting the companies “to the plate”. What do we need to learn in this area to be more effective?

From this research, services, pricing, and messaging may be repositioned to address the exporting needs of small and medium-sized businesses.

II. Method of Collection

The CS, MEP, Census, and Ex-Im have contracted with Pacific Consulting Group (PCG) to conduct focus group interviews to gain insight into the attitudes, needs, and behaviors of moderate exporters.

PCG will recruit firms over the phone using lists obtained from third party vendors. Data collection will be conducted during eight phone interviews (8 participants per focus group) by a client focus group moderator who will record the interviews and then transcribe via computer. All comments from participants will be anonymous. Data collected from focus groups will provide qualitative information that will later serve to supplement the quantitative data collected in subsequent surveys and form a complete picture of the needs, attitudes, and behaviors of a moderate exporter. Subsequently, mass surveys yielding at least 1600 survey responses will seek to collect quantitative data.

III. Data

OMB Number: 0625-xxxx.

Form Number: ITA-xxxx.

Type of Review: Regular Submission.

Affected Public: U.S. companies that are recruited by Pacific Consulting Group.

Estimated Number of Respondents: 64.

Estimated Time Per Response: 1.5 hours for focus group participants.

Estimated Total Annual Burden Hours: 96 hours.

Estimated Total Annual Costs: $3,360.

IV. Request for Comments

Comments are invited on: (a) Whether the proposed collection of information is necessary for the proper performance of the functions of the agency, including whether the information shall have practical utility; (b) the accuracy of the agency's estimate of the burden (including hours and costs) of the proposed collection of information; (c) ways to enhance the quality, utility, and clarity of the information to be collected; (d) ways to minimize the burden of the collection of information on respondents, including through the use of automated collection techniques or forms of information technology. Comments submitted in response to this notice will be summarized and/or included in the request for OMB approval of this information collection; they also will become a matter of public record.

Dated: December 11, 2006.
Madeleine Clayton,
Management Analyst, Office of the Chief Information Officer.

[FR Doc. E6-21319 Filed 12-14-06; 8:45 am]

BILLING CODE 3510-FP-P